DEPARTMENT OF DEFENSE

Department of Navy

Notice of Availability of Government-Owned Inventions; Available for Licensing

AGENCY: Department of the Navy, DOD.

ACTION: Notice.

SUMMARY: The inventions listed below are assigned to the United States Government as represented by the Secretary of the Navy and are available for licensing by the Department of the Navy. Navy Case Number 73962 entitled “Lightweight Thermal Heat Transfer Apparatus”, Inventors Thoman et al., U.S. Application Number 10/056,812 filed on January 24, 2002. Navy Case Number 82261 entitled “Global Visualization Process (GVP) and System for Implementing a GVP”, Inventors Dunn et al., U.S. Application Number 10/255,413 filed on September 26, 2004. Navy Case Number 97040 entitled “Composition and Process for Removing and Preventing Mildew and Fungal Growth”, Inventors Arafat et al., U.S. Application Number 11/115,170 filed on June 10, 2005. Navy Case Number 82987 entitled “Hybrid Lidar Radar for Medical Diagnostics”, Inventors Mullen et al., U.S. Application Number 10/207,642 filed on July 29, 2002. Navy Case Number 83683 entitled “Method for Comparing Tabular Data”, Inventors Spodaryk et al., U.S. Application Number 10/956,522 filed on September 23, 2004. Navy Case Number 83822 entitled “Helicopter Messenger Cable Illumination”, Inventor Kaolliopoulos, U.S. Application Number 10/834,154 filed on April 23, 2004. Navy Case Number 84051 entitled “Rapid Release Mechanism for Textile Apparel Pockets (receptacles) and Packs (stowage receptacles)”, Inventor Todd, U.S. Application Number 11/001,599 filed on November 30, 2004. Navy Case Number 84380 entitled “Spray Array Apparatus”, Inventors Foianini et al., U.S. Application Number 10/956,525 filed on September 23, 2004.

ADDRESSES: Request for data and inventor interviews should be directed to Mr. Paul Fritz, Naval Air Warfare Center Aircraft Division, Business Development Office, Office of Research and Technology Applications, Building 304, Room 107, 22541 Millstone Road, Patuxent River, MD 20670, (301) 342-5586, or e-mail: Paul.Fritz@navy.mil.

DATES: Request for data and inventor interviews should be made prior to August 21, 2005.

FOR FURTHER INFORMATION CONTACT: Mr. Hans Kohler, Office of Research and Technology Applications, Building 150/2, Naval Air Warfare Center Aircraft Division, Lakehurst, NJ 08733-5060, (732) 323-2948, e-mail: Hans.Kohler@navy.mil, or Mr. Paul Fritz, Office of Research and Technology Applications, Building 304, Room 107, Naval Air Warfare Center Aircraft Division, 22541 Millstone Road, Patuxent River, MD 20670, (301) 342-5586, e-mail: Paul.Fritz@navy.mil.

SUPPLEMENTARY INFORMATION: The U.S. Navy intends to move expeditiously to license these inventions. All licensing application packages and commercialization plans must be returned to Naval Air Warfare Center Aircraft Division, Business Development Office, Office of Research and Technology Applications, Building 304, Room 107, 22541 Millstone Road, Patuxent River, MD 20670.

The Navy, in its decisions concerning the granting of licenses, will give special consideration to existing licensee's, small business firms, and consortia involving small business firms. The Navy intends to ensure that its licensed inventions are broadly commercialized throughout the United States.

PCT applications may be filed for each of the patents as noted above. The Navy intends that licensees interested in a license in territories outside of the United States will assume foreign prosecution and pay the cost of such prosecution.

Authority: 35 U.S.C. 207, 37 CFR 404.

Dated: August 3, 2005.
I.C. Le Moyne Jr.,
Lieutenant, Judge Advocate General's Corps, U.S. Navy, Alternate Federal Register Liaison Officer.

[FR Doc. 05-15807 Filed 8-9-05; 8:45 am]

BILLING CODE 3810-FF-P